DEPARTMENT OF VETERANS AFFAIRS

[OMB Control No. 2900-XXXX]

Agency Information Collection Activity Under OMB Review: Labor Market Information-Veteran Readiness and Employment

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-XXXX.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-10290” in any correspondence.

SUPPLEMENTARY INFORMATION:

Authority: 38 U.S.C 3116 and 3117.

Title: Labor Market Information Report-Veteran Readiness and Employment.

OMB Control Number: 2900-XXXX.

Type of Review: New collection.

Abstract: VA Form 28-10290 will be used to collect information on individualized labor market information to include specific occupational trends, required qualifications, skillsets, salaries, physical and educational requirements for the Veteran's identified occupational career path. The information collected will be used to conduct an evaluation to assist the Veteran in selecting a suitable vocational goal that is consistent with his or her abilities, aptitudes, interests and does not aggravate his or her disability(ies). Vocational planning is a critical element in selecting a suitable vocational goal for the purpose of the development of a rehabilitation plan for a Veteran within the Veteran Readiness and Employment (VR&E) program. The foundation of a successful rehabilitation program is a well-developed plan of action. Comprehensive labor market information is the first step in developing a successful rehabilitation plan for each Veteran. The VR&E staff subsequently, will use the information on this form to ensure a suitable vocational goal is identified as part of the Veteran's rehabilitation plan to assist him or her in obtaining and maintaining suitable employment. This form will be obtained through electronic methods to include VA.gov or by the referring Vocational Rehabilitation Counselor. Upon compilation of the data, the form will be electronically submitted to the appropriate VR&E staff.

An agency may not conduct or sponsor, and a person is not required to respond to a collection of information unless it displays a currently valid OMB control number. The Federal Register Notice with a 60-day comment period soliciting comments on this collection of information was published at insert citation date: 89 FR 4659 on January 24, 2024, page 4659.

Affected Public: Individuals or Households.

Estimated Annual Burden: 16,586 hours.

Estimated Average Burden per Respondent: 15 minutes.

Frequency of Response: One time.

Estimated Number of Respondents: 66,344 per year.

By direction of the Secretary.
Dorothy Glasgow,
VA PRA Clearance Officer, (Alt.) Office of Enterprise and Integration, Data Governance Analytics, Department of Veterans Affairs.

[FR Doc. 2024-07332 Filed 4-5-24; 8:45 am]

BILLING CODE 8320-01-P